DEPARTMENT OF ENERGY

Federal Energy Regulatory Commission

[Project No. 13728-000]

Goodwin Power, LLC; Notice of Preliminary Permit Application Accepted for Filing and Soliciting Comments, Motions To Intervene, and Competing Applications

July 15, 2010.

On May 10, 2010, Goodwin Power, LLC filed an application, pursuant to section 4(f) of the Federal Power Act, proposing to study the feasibility of the Goodwin Dam Project, located on the Stanislaus River in Tuolumne and Calaveras counties, California. The sole purpose of a preliminary permit, if issued, is to grant the permit holder priority to file a license application during the permit term. A preliminary permit does not authorize the permit holder to perform any land-disturbing activities or otherwise enter upon lands or waters owned by others without the owners' express permission.

The proposed project would be located at the existing Goodwin dam ¹ and would harness water that currently flows over the spillway of the Goodwin dam. The proposed project would consist of: (1) One electrical generating unit, with a total installed capacity of 4 megawatts; (2) a 300-foot-long, 9-foot-diameter steel penstock to be installed through the dam body close to the southern abutment; (3) a powerhouse to be constructed approximately 300 feet below the Goodwin dam on the south side of the Stanislaus River; (4) an approximately 50-foot-long, 20-foot-wide tailrace canal that would take water from the powerhouse to the river bed; (5) a 15-foot-wide, gravel or other all-weather surface access road to be constructed from Tulloch Road to the powerhouse; (6) a new switchyard and 138-kilovolt transmission overhead line or buried cable approximately 1.5 miles in length that would connect to Pacific Gas and Electric Company's transmission lines at Tulloch dam; ² and (7) appurtenant facilities.

¹ The existing Goodwin dam is owned by the Oakdale Irrigation District and San Joaquin Irrigation District.

² Tulloch dam is a component of the Tulloch Hydroelectric Project (FERC Project No. 2067), which is owned and operated by Tri-Dam Project. The Tulloch Hydroelectric Project connects to transmission lines owned and operated by Pacific Gas and Electric Company.

Applicant Contact: Mr. Magnús Jóhannesson; America Renewables, LLC; 28605 Quailhill Drive, Rancho Palos Verdes, CA 90275; 310-699-6400; mj@americarenewables.com.

FERC Contact: Carolyn Templeton (202) 502-8785; carolyn.templeton@ferc.gov.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp. More information about this project can be viewed or printed on the “eLibrary” link of the Commission's Web site at http://www.ferc.gov/docs-filing/elibrary.asp. Enter the docket number (P-13728) in the docket number field to access the document. For assistance, call toll free 1-866-208-3372.

Kimberly D. Bose,
Secretary.

[FR Doc. 2010-17887 Filed 7-21-10; 8:45 am]

BILLING CODE 6717-01-P